DEPARTMENT OF COMMERCE

Foreign-Trade Zones Board

[Docket 6-2001]

Proposed Foreign-Trade Zone—Amarillo, Texas, Area Application and Public Hearing

An application has been submitted to the Foreign-Trade Zones (FTZ) Board (the Board) by the City of Amarillo, Texas, to establish a general-purpose foreign-trade zone at sites in the Amarillo, Texas, area, within/adjacent to the Amarillo Customs port of entry. The application was submitted pursuant to the provisions of the FTZ Act, as amended (19 U.S.C. 81a-81u), and the regulations of the Board (15 CFR Part 400). It was formally filed on January 22, 2001. The applicant is authorized to make the proposal under Texas Revised Civil Statutes Article 1446.01.

The proposed new zone would consist of sites serving Amarillo and the Texas High Plains region: Site 1 at the 4,000-acre Amarillo International Airport and adjacent industrial park property, 10801 Airport Boulevard, Amarillo; Site 2 (6 acres)—Panhandle Container Service Center, 1201 South Johnson Street, Amarillo; Site 3 (345 acres)—Hutchinson County Airport and industrial park, ¼ mile north of the City of Borger; Site 4 (68 acres)—Ferguson Business Park, 650 Wilson Avenue, Dumas; Site 5 (95 acres)—Industrial Park East, State Highway 60, Pampa; Site 6 (213 acres)—PEDCO Park, Tying Avenue, Pampa; Site 7 (.52 acres)—Donley site, ½ block from State Highway 87, Tulia; Site 8 (6 acres)—RCD site, adjacent to the Burlington Northern Santa Fe Railroad in the 1000 block of N.W. 6th , Tulia; Site 9 (10 acres)—Anderson site, State Highway 87, Tulia; and, Site 10 (3 acres)—Bivens site, I-27 near the intersection of State Highway 86, Tulia. The proposed zone project represents a joint effort by the City and the Amarillo Economic Development Corporation to further promote trade and economic development within Amarillo and the surrounding High Plains Region. The facilities are publicly-owned, except for Site 2 and a few parcels within Site 1, and Site 3 is part of a Borger/Hutchinson County Enterprise Zone.

The application indicates a need for foreign-trade zone services in the Amarillo area and the Texas High Plains region. Several firms have indicated an interest in using zone procedures for warehousing/distribution activities. Specific manufacturing approvals are not being sought at this time. Requests would be made to the Board on a case-by-case basis.

In accordance with the Board's regulations, a member of the FTZ Staff has been designated examiner to investigate the application and report to the Board.

As part of the investigation, the Commerce examiner will hold a public hearing on February 22, 2001, at 9:00 a.m., Kritser Conference Room, Second Level, Amarillo International Airport Terminal, 10801 Airport Boulevard, Amarillo, Texas 79111.

Public comment on the application is invited from interested parties. Submissions (original and 3 copies) shall be addressed to the Board's Executive Secretary at the address below. The closing period for their receipt is April 2, 2001. Rebuttal comments in response to material submitted during the foregoing period may be submitted during the subsequent 15-day period (to April 16, 2001).

A copy of the application and accompanying exhibits will be available during this time for public inspection at the following locations:

Office of the Assistant City Manager, City Hall, City of Amarillo, 509 S.E. Seventh Avenue, Amarillo, TX 79105-1971, Office of the Executive Secretary, Foreign-Trade Zones Board, Room 4008, U.S. Department of Commerce, 14th and Pennsylvania Avenue, NW, Washington, DC 20230

Dated: January 23, 2001.
Dennis Puccinelli,
Executive Secretary.

[FR Doc. 01-2529 Filed 1-29-01; 8:45 am]

BILLING CODE 3510-DS-P